DEPARTMENT OF ENERGY

Federal Energy Regulatory Commission

[Docket No. AD10-11-000]

Frequency Regulation Compensation in the Organized Wholesale Power Markets; Notice Establishing Date for Comments

May 27, 2010.

On May 26, 2010, Commission staff convened a technical conference regarding frequency regulation in the organized wholesale power markets, as previously announced.¹

¹ Notice of Technical Conference re Frequency Compensation in the Organized Wholesale Power Markets, 75 FR 23,759, as supplemented by Supplemental Notice of Technical Conference re Frequency Compensation in the Organized Wholesale Power Markets, issued April 27, 2010.

Entities wishing to submit further, written comments regarding the matters discussed at the technical conference should submit their comments in this docket on or before June 16, 2010.

Kimberly D. Bose,
Secretary.

[FR Doc. 2010-13371 Filed 6-2-10; 8:45 am]

BILLING CODE 6717-01-P